ENVIRONMENTAL PROTECTION AGENCY

[FRL-8224-8]

Notice of Proposed Administrative Cashout Agreement Pursuant to Section 122(H)(1) of the Comprehensive Environmental Response, Compensation, and Liability Act; in Re: Calumet Containers Superfund Site, Hammond, Indiana

AGENCY: Environmental Protection Agency.

ACTION: Notice; request for public comment.

SUMMARY: Notice is hereby given of a proposed administrative settlement under CERCLA concerning the Calumet Containers Superfund Site (“Site”) in Hammond, Indiana. Subject to review and comment by the public pursuant to this Notice, the settlement has been approved by the United States Department of Justice.

The settlement resolves an Environmental Protection Agency (EPA) claim under Sections 106 and 107(a) of CERCLA and Section 7003 of RCRA, against 51 parties who have executed binding certifications of their consent to the settlement, as listed below in the Supplemental Information Section.

The settlement requires the settling parties to pay a total of $1,664,967 to the Hazardous Substances Superfund, Calumet Containers Superfund Site, Special Account. Each settling party is required to pay an amount specified for that party in the settlement based upon the volume of waste that party contributed to the Site. Payments received shall be applied, retained or used to finance the response actions taken or to be taken at or in connection with the Site.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA, Region 5, 7th Floor File Room, 77 West Jackson Boulevard, Chicago, Illinois.

DATES: Comments must be submitted on or before October 30, 2006.

ADDRESSES: The proposed settlement is available for public inspection at the EPA, Region 5, 7th Floor File Room, 77 West Jackson Boulevard, Chicago, Illinois. In addition, a copy of the proposed settlement also may be obtained from Richard M. Murawski, Assistant Regional Counsel (C-14J), Region 5, 77 West Jackson Boulevard, Chicago, Illinois 60604-3590, or by calling (312) 886-6721. Comments should reference the Calumet Containers Superfund Site, Hammond, Indiana and EPA Docket No. V-W-06-C-854 and should be addressed to Richard M. Murawski, Assistant Regional Counsel (C-14J), Region 5, 77 West Jackson Boulevard, Chicago, Illinois 60604.

SUPPLEMENTARY INFORMATION: The parties listed below have executed binding certifications of their consent to participate in the settlement.

Settling Parties: Alden & Ott Printing Ink Co.; American Can Company; American Steel Foundries; Ashland Chemical; Bee Chemical Company (aka Universal Color Dispersions), a Rohm and Haas Company; Bretford Manufacturing, Inc.; Caterpillar Inc.; Central Ink Corporation; Davies Imperial Coatings, Inc.; MediaNews Group, Inc., for its subsidiary, The Denver Post Corporation; Dober Chemical Corp.; R.R. Donnelley & Sons Company, including Moore Wallace Hillside Printing, Wallace Press; Wyeth, on behalf of Dupli-Color Products Company; E.I. DuPont de Nemours and Company; Edwards & Deutsch Lithographing Co., Inc.; Elgin, Joliet and Eastern Railway Company; Flint Ink Corporation; Ford Motor Company; Georgia-Pacific Corporation/Will County Press; The Glidden Company (formerly Glidden Coatings & Resins, division of SCM Corporation) and including successor to the liability, MHC Inc., a subsidiary of Millennium Chemicals, Inc.; City of Hammond, Indiana; Lee Enterprises, Inc. f/d/b/a The Hammond Times; Harris-Hub Company, a division of Dresher, Inc.; Illinois Bronze Paint Company; Indiana Harbor Belt Railroad Company; International Truck and Engine Corp. (f/k/a International Harvester); BASF Corporation (International Print Ink Corp); Keil Chemical, Division of Ferro Corporation; Kohl & Madden Division of Sun Chemical Corporation; The Lehigh Press, Inc. (Lehigh Cadillac); The Dow Chemical Company on behalf of Mortell; National Can Company (Rexam Beverage); Tomkins Industries, Inc. (fka Philips Industries, Inc.); Poole Bros./Primerica Corp./American Can Company; Rand McNally & Company; Service Web Offset Corporation; Sheffield Estates, LLC/Zeman Manufactured Home Communities; The Sherwin-Williams Company; Honeywell International, Inc., on behalf of Sinclair & Valentine; Sequa Corporation (fka Sun Chemical); Brenntag Great Lakes, LLC, successor to Tab Chemicals; Thermark (Avery); Thrall Car Mfg.; Union Tank Car Company; United States Steel Corporation; The Valspar Corporation on behalf of itself and Roto Ink; W.C. Richards Company; Quebecor World KRI Inc., f/k/a Krueger Ringier, Inc., f/k/a W. F. Hall Printing Company, on behalf of itself and Chicago Rotoprint Company, a wholly owned subsidiary of W.F. Hall Printing Company; Chevron Environmental Management Company for itself and on behalf of Union Oil Company; and Moen Incorporated (Western Cold Drawn Steel).

Settling Federal Agency: United States Defense Logistics Agency.

FOR FURTHER INFORMATION CONTACT: Richard M. Murawski, Assistant Regional Counsel (C-14J), Region 5, 77 West Jackson Boulevard, Chicago, Illinois 60604, or call (312) 886-6721.

Authority: The Comprehensive Environmental Response, Compensation and Liability Act, as amended, 42 U.S.C. 9601-9675, the Resource Conservation and Recovery Act, as amended, 42 U.S.C. 6901-6992, and the Illinois Environmental Protection Act, as amended, 415 ILCS Section 5/22.2a.

Dated: September 19, 2006.
Thomas Short,
Acting Director, Superfund Division, Region 5.

[FR Doc. E6-15942 Filed 9-27-06; 8:45 am]

BILLING CODE 6560-50-P